Title 3—

The President

Memorandum of February 27, 2014

Creating and Expanding Ladders of Opportunity for Boys and Young Men of Color

Memorandum for the Heads of Executive Departments and Agencies

Over the course of my Administration, we have made consistent progress on important goals such as reducing high school dropout rates and lowering unemployment and crime. Yet as the Congress, State and local governments, research institutions, and leading private-sector organizations have all recognized, persistent gaps in employment, educational outcomes, and career skills remain for many boys and young men of color throughout their lives.

Many boys and young men of color will arrive at kindergarten less prepared than their peers in early language and literacy skills, leaving them less likely to finish school. Labor-force participation rates for young men of color have dropped, and far too many lack the skills they need to succeed. The disproportionate number of African American and Hispanic young men who are unemployed or involved in the criminal justice system undermines family and community stability and is a drag on State and Federal budgets. And, young men of color are far more likely to be victims of murder than their white peers, accounting for almost half of the country's murder victims each year. These outcomes are troubling, and they represent only a portion of the social and economic cost to our Nation when the full potential of so many boys and young men is left unrealized.

By focusing on the critical challenges, risk factors, and opportunities for boys and young men of color at key life stages, we can improve their long-term outcomes and ability to contribute to the Nation's competiveness, economic mobility and growth, and civil society. Unlocking their full potential will benefit not only them, but all Americans.

Therefore, I am establishing the My Brother's Keeper initiative, an interagency effort to improve measurably the expected educational and life outcomes for and address the persistent opportunity gaps faced by boys and young men of color. The initiative will help us determine the public and private efforts that are working and how to expand upon them, how the Federal Government's own policies and programs can better support these efforts, and how to better involve State and local officials, the private sector, and the philanthropic community.

By the authority vested in me as President by the Constitution and the laws of the United States of America, I hereby direct the following:

Section 1. My Brother's Keeper Task Force. (a) There is established a My Brother's Keeper Task Force (Task Force) to develop a coordinated Federal effort to improve significantly the expected life outcomes for boys and young men of color (including African Americans, Hispanic Americans, and Native Americans) and their contributions to U.S. prosperity. The Task Force shall be chaired by the Assistant to the President and Cabinet Secretary. In addition to the Chair, the Task Force shall consist of the following members:

(i) the Attorney General;

(ii) the Secretary of Agriculture;

(iii) the Secretary of Commerce;

(iv) the Secretary of Defense;

(v) the Secretary of Education;

(vi) the Secretary of Health and Human Services;

(vii) the Secretary of Housing and Urban Development;

(viii) the Secretary of the Interior;

(ix) the Secretary of Labor;

(x) the Secretary of Transportation;

(xi) the Director of the Office of Management and Budget;

(xii) the Chair of the Council of Economic Advisers;

(xiii) the Director of the Office of Personnel Management;

(xiv) the Administrator of the Small Business Administration;

(xv) the Chief Executive Officer of the Corporation for National and Community Service;

(xvi) the Assistant to the President for Intergovernmental Affairs and Public Engagement;

(xvii) the Director of the Domestic Policy Council;

(xviii) the Director of the Office of Science and Technology Policy;

(xix) the Director of the National Economic Council; and

(xx) the heads of such other executive departments, agencies, and offices as the Chair may, from time to time, designate.

(b) A member of the Task Force may designate a senior-level official who is from the member's department, agency, or office, and is a full-time officer or employee of the Federal Government, to perform the day-to-day Task Force functions of the member. At the direction of the Chair, the Task Force may establish subgroups consisting exclusively of Task Force members or their designees under this subsection, as appropriate.

(c) The Deputy Secretary of Education shall serve as Executive Director of the Task Force, determine its agenda, convene regular meetings of the Task Force, and supervise its work under the direction of the Chair. The Department of Education shall provide funding and administrative support for the Task Force to the extent permitted by law and within existing appropriations. Each executive department or agency shall bear its own expenses for participating in the Task Force.

Sec. 2. Mission and Function of the Task Force. (a) The Task Force shall, consistent with applicable law, work across executive departments and agencies to:

(i) develop a comprehensive public Web site, to be maintained by the Department of Education, that will assess, on an ongoing basis, critical indicators of life outcomes for boys and young men of color (and other ethnic, income, and relevant subgroups) in absolute and relative terms;

(ii) assess the impact of Federal policies, regulations, and programs of general applicability on boys and young men of color, so as to develop proposals that will enhance positive outcomes and eliminate or reduce negative ones;

(iii) create an Administration-wide, online public portal to identify and disseminate successful programs and practices that improve outcomes for boys and young men of color;

(iv) recommend, where appropriate, incentives for the broad adoption by national, State, and local public and private decisionmakers of effective and innovative strategies and practices for providing opportunities to and improving outcomes for boys and young men of color;

(v) consistent with applicable privacy laws and regulations, provide relevant Federal data assets and expertise to public and private efforts to increase opportunities and improve life outcomes for boys and young men of color, and explore ways to coordinate with State and local governments and non-governmental actors with useful data and expertise;

(vi) ensure coordination with other Federal interagency groups and relevant public-private initiatives;

(vii) work with external stakeholders to highlight the opportunities, challenges, and efforts affecting boys and young men of color; and

(viii) recommend to the President means of ensuring sustained efforts within the Federal Government and continued partnership with the private sector and philanthropic community as set forth in this memorandum.

(b) The Task Force shall focus on evidence-based intervention points and issues facing boys and young men of color up to the age of 25, with a particular focus on issues important to young men under the age of 15. Specifically, the Task Force shall focus on the following issues, among others: access to early childhood supports; grade school literacy; pathways to college and a career, including issues arising from school disciplinary action; access to mentoring services and support networks; and interactions with the criminal justice system and violent crime.

(c) Within 30 days of the date of this memorandum, each member of the Task Force shall provide recommended indicators of life outcomes for the public Web site described in subsection (a)(i) of this section, and a plan for providing data on such indicators.

(d) Within 45 days of the date of this memorandum, each member of the Task Force shall identify any relevant programs and data-driven assessments within the member's department or agency for consideration in the portal described in subsection (a)(iii) of this section.

(e) Within 90 days of the date of this memorandum, the Task Force shall provide the President with a report on its progress and recommendations with respect to the functions set forth in subsection (a) of this section. Additionally, the Task Force shall provide, within 1 year of the date of this memorandum, a status report to the President regarding the implementation of this memorandum.

Sec. 3. General Provisions. (a) Nothing in this memorandum shall be construed to impair or otherwise affect:

(i) the authority granted by law or Executive Order to an agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Education is hereby authorized and directed to publish this memorandum in the Federal Register.

THE WHITE HOUSE,

Washington, February 27, 2014

[FR Doc. 2014-05073

Filed 3-6-14; 8:45 am]

Billing code 4000-01